DEPARTMENT OF TRANSPORTATION

Federal Aviation Administration

14 CFR Part 39

[Docket No. 2002-SW-57-AD; Amendment 39-13134; AD 2003-09-05]

RIN 2120-AA64

Airworthiness Directives; Schweizer Aircraft Corporation Model 269D Helicopters

AGENCY: Federal Aviation Administration, DOT.

ACTION: Final rule; request for comments.

SUMMARY: This amendment adopts a new airworthiness directive (AD) for Schweizer Aircraft Corporation (Schweizer) Model 269D helicopters. This action requires inspecting each aluminum horizontal stabilizer endplate (endplate) and the attach angles for cracks, fretting, and endplate bending. If fretting is found, as indicated by a powder residue adjacent to a rivet head, installing an inspection hole in the horizontal stabilizer and inspecting the internal structure is required. Replacing unairworthy parts is required before further flight. Finally, reporting any cracked or bent endplate, any cracked attach angles, or fretting to the FAA is required. This amendment is prompted by reports of loose endplates, and one report of an endplate separating from the helicopter during flight. The actions specified in this AD are intended to prevent loss of an endplate during flight, which could strike the tail rotor and result in loss of control of the helicopter.

DATES: Effective May 16, 2003.

The incorporation by reference of certain publications listed in the regulations is approved by the Director of the Federal Register as of May 16, 2003.

Comments for inclusion in the Rules Docket must be received on or before June 30, 2003.

ADDRESSES: Submit comments in triplicate to the Federal Aviation Administration (FAA), Office of the Regional Counsel, Southwest Region, Attention: Rules Docket No. 2002-SW-57-AD, 2601 Meacham Blvd., Room 663, Fort Worth, Texas 76137. You may also send comments electronically to the Rules Docket at the following address: 9-asw-adcomments@faa.gov.

The service information referenced in this AD may be obtained from Schweizer Aircraft Corporation, P.O. Box 147, Elmira, New York 14902. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: George Duckett, Aviation Safety Engineer, FAA, New York Aircraft Certification Office, Airframe and Propulsion Branch, 10 Fifth Street, 3rd Floor, Valley Stream, New York, telephone (516) 256-7525, fax (516) 568-2716.

SUPPLEMENTARY INFORMATION: This amendment adopts a new AD for Schweizer Model 269D helicopters. This action requires inspecting each aluminum endplate and the attach angles for cracks, fretting, and endplate bending before further flight, and thereafter at each 100-hour inspection. Installing an inspection hole in the horizontal stabilizer and inspecting the internal structure is required before further flight if fretting is found, as indicated by a powder residue adjacent to a rivet head. If no powder residue is found, then installing an inspection hole is required at the next 100-hour inspection. Replacing unairworthy parts is required before further flight. Schweizer Basic Handbook of Maintenance Instructions (HMI), dated December 9, 2002, pertains to the subject of this AD. Section 11 of the HMI describes the inspection and replacement procedures. Reporting any cracked or bent endplate, any cracked attach angles, or fretting to the FAA is required within one day of the inspection. The report must include the helicopter model, configuration, and serial number; description of the damage; the TIS of the damaged part; and the TIS since the last 100-hour TIS inspection. This amendment is prompted by reports of loose endplates, and one report of an endplate separating from the helicopter during flight. There are two types of endplates currently in service: an aluminum honeycomb endplate, part number (P/N) 269D3413-11, and a fiberglass honeycomb endplate, P/N 269D3413-13. The reports of difficulties have been limited to the aluminum endplates. The actions specified in this AD are intended to prevent loss of an endplate during flight, which could strike the tail rotor and result in loss of control of the helicopter.

The FAA has reviewed Schweizer Service Bulletin No. DB-011.1, dated March 20, 2003, which describes procedures for inspecting the horizontal stabilizer, endplate, and attach angles, and installing an inspection hole in the horizontal stabilizer.

This unsafe condition is likely to exist or develop on other helicopters of the same type design. Therefore, this AD is being issued to prevent loss of an endplate during flight, which could strike the tail rotor and result in loss of control of the helicopter. This AD requires inspecting each aluminum endplate for a crack or bending, and inspecting each attach angle for cracks or fretting. If fretting is found, as indicated by a powder residue adjacent to a rivet head, installing an inspection hole in the horizontal stabilizer and inspecting the internal structure is required. Replacing unairworthy parts is required before further flight. Finally, reporting any cracked or bent endplate, any cracked attach angles, or fretting to the FAA is required within one day of the inspection. The report must include the helicopter model, configuration, and serial number; the TIS of the damaged part; and the TIS since the last 100-hour TIS inspection. The actions must be accomplished in accordance with the service bulletin described previously. The short compliance time involved is required because the previously described critical unsafe condition can adversely affect the controllability and structural integrity of the helicopter. Therefore, inspecting the horizontal stabilizer, endplate and attach angles and replacing parts, if necessary, is required before further flight and this AD must be issued immediately.

Since a situation exists that requires the immediate adoption of this regulation, it is found that notice and opportunity for prior public comment hereon are impracticable, and that good cause exists for making this amendment effective in less than 30 days.

The FAA estimates that 22 helicopters will be affected by this AD, that it will take approximately: 0.5 work hour to inspect the exterior of the horizontal stabilizer and endplate; 0.5 work hour to inspect the interior of the horizontal stabilizer; 1.5 work hours to cut an inspection hole and make a cover plate; and 4.5 work hours to replace a rib, two angles, a doubler, and an endplate. The average labor rate is $60 per work hour. Required parts will cost approximately $20 for the access cover and $1,380 per side for the rib, two angles, doubler, endplate, and fasteners, per helicopter. Based on these figures, and assuming 7 helicopters (approximately one-third of the inspected helicopters) will require one endplate replacement on one side, the total cost impact of the AD on U.S. operators is estimated to be $15,290.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All comments received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket No. 2002-SW-57-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-09-05 Schweizer Aircraft Corporation: Amendment 39-13134. Docket No. 2002-SW-57-AD.

Applicability: Model 269D helicopters, serial numbers 0001 through 0022, with an aluminum horizontal stabilizer endplate (endplate), part number (P/N) 269D3413-11, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Note 2: There are two types of endplates currently in service: an aluminum honeycomb endplate, part number (P/N) 269D3413-11, that is approximately 0.2 inches thick, and a fiberglass honeycomb endplate, P/N 269D3413-13, that is approximately 0.3 inches thick.

Compliance: Required as indicated, unless accomplished previously.

To prevent loss of an endplate during flight, which could strike the tail rotor and result in loss of control of the helicopter, accomplish the following:

(a) Before further flight, and thereafter at each 100-hour inspection, inspect each endplate and the attach angles in accordance with the Procedure, Part I, of Schweizer Service Bulletin No. DB-011.1, dated March 20, 2003 (SB).

(1) If an endplate is bent or a crack is found in an endplate or an attach angle, before further flight, replace the attach angles and tip rib with new, airworthy parts and replace the endplate with a new, airworthy endplate, P/N 269D3413-13.

(2) If fretting is found, as indicated by a powder residue adjacent to a rivet head in an attach angle, before further flight:

(i) Install an inspection hole in the bottom of the horizontal stabilizer in accordance with the Procedure, Part II, of the SB,

(ii) Inspect the internal structure of the horizontal stabilizer, and

(iii) Replace all unairworthy parts.

Note 3: Schweizer Basic Handbook of Maintenance Instruction (HMI), dated December 9, 2002, pertains to the subject of this AD.

(b) If no powder residue is found, install an inspection hole in the bottom of the horizontal stabilizer in accordance with the Procedure, Part II, of the SB at the next 100-hour inspection.

(c) If a cracked or bent endplate, any cracked attach angles, or fretting is found, report that damage to the FAA, ATTN: George Duckett, within one day. Reports may be faxed to (516) 568-2716, or emailed to george.duckett@faa.gov. Report the helicopter model, configuration, serial number, description of the damage, the TIS of the damaged part, and the TIS since the last 100-hour TIS inspection.

(d) Information collection requirements contained in this AD have been approved by the Office of Management and Budget (OMB) under the provisions of the Paperwork Reduction Act of 1980 (44 U.S.C. 3501 et seq.) and have been assigned OMB Control Number 2120-0056.

(e) An alternative method of compliance or adjustment of the compliance time that provides an acceptable level of safety may be used if approved by the Manager, New York Aircraft Certification Office (NYACO), FAA. Operators shall submit their requests through an FAA Principal Maintenance Inspector, who may concur or comment and then send it to the Manager, NYACO.

Note 4: Information concerning the existence of approved alternative methods of compliance with this AD, if any, may be obtained from the NYACO.

(f) Special flight permits may be issued in accordance with 14 CFR 21.197 and 21.199 to operate the helicopter to a location where the requirements of this AD can be accomplished.

(g) The inspections and modifications, if necessary, shall be done in accordance with Schweizer Service Bulletin No. DB-011.1, dated March 20, 2003. This incorporation by reference was approved by the Director of the Federal Register in accordance with 5 U.S.C. 552(a) and 1 CFR part 51. Copies may be obtained from Schweizer Aircraft Corporation, P.O. Box 147, Elmira, New York 14902. Copies may be inspected at the FAA, Office of the Regional Counsel, Southwest Region, 2601 Meacham Blvd., Room 663, Fort Worth, Texas; or at the Office of the Federal Register, 800 North Capitol Street, NW., suite 1700, Washington, DC.

(h) This amendment becomes effective on May 16, 2003.

Issued in Fort Worth, Texas, on April 22, 2003.
Mark R. Schilling,
Acting Manager, Rotorcraft Directorate, Aircraft Certification Service.

[FR Doc. 03-10507 Filed 4-30-03; 8:45 am]

BILLING CODE 4910-13-P